DEPARTMENT OF ENERGY

Federal Energy Regulatory Commission

[Docket No. EG01-240-000, et al.]

Odessa-Ector Power Partners, L.P., et al. Electric Rate and Corporate Regulation Filings

June 27, 2001.

Take notice that the following filings have been made with the Commission:

1. Odessa-Ector Power Partners, L.P.

[Docket No. EG01-240-000]

Take notice that on June 21, 2001, Odessa-Ector Power Partners, L.P. (OEPP), filed with the Federal Energy Regulatory Commission an application for redetermination of exempt wholesale generator status pursuant to Part 365 of the Commission's regulations.

OEPP is a Delaware limited partnership which will own and/or operate a natural gas-fired electric generating facility with an expected generating capacity of 1,000 MW to be located in Ector County, Texas within the region governed by the Electric Reliability Council of Texas (ERCOT) and sell electricity at wholesale.

Comment date: July 18, 2001, in accordance with Standard Paragraph E at the end of this notice. The Commission will limit its consideration of comments to those that concern the adequacy or accuracy of the application.

2. Electric City Energy Producers, LLC

[Docket No. EG01-241-000]

Take notice that on June 21, 2001, Electric City Energy Producers, LLC (ECEP), a Montana limited liability company, 1900 10th St. NE, Great Falls, MT, 59404 filed with the Federal Energy Regulatory Commission as application for determination of exempt wholesale generator status pursuant to part 365 of the Commission's regulations.

ECEP is engaged directly and exclusively in the business of owning and operating all or part of one or more eligible facilities and selling electric energy and capacity at wholesale. ECEP intends to produce electricity using diesel generators. ECEP is owned by the Montana Refining Company of Great Falls, MT and the Warren Administration Company or Midland, TX.

Comment date: July 18, 2001, in accordance with Standard Paragraph E at the end of this notice. The Commission will limit its consideration of comments to those that concern the adequacy or accuracy of the application.

3. GNA Energy, LLC

[Docket No. EG01-242-000]

Take notice that on June 22, 2001, GNA Energy, LLC, 2727 NW Westover, Portland, Oregon 97210, filed with the Federal Energy Regulatory Commission (Commission), an application for determination of exempt wholesale generator status pursuant to Part 365 of the Commission's regulations.

The Applicant proposes to develop and own a natural gas-fired electric generation plant. The facility will have a maximum capacity of 225 megawatts. The facility will be located in Klickitat County, Washington. The facility is scheduled to be completed in February 2002.

Comment date: July 18, 2001, in accordance with Standard Paragraph E at the end of this notice. The Commission will limit its consideration of comments to those that concern the adequacy or accuracy of the application.

4. LLP Power Generation L.L.C.

[Docket No. EG01-244-000]

Take notice that on June 22, 2001, LLP Power Generation L.L.C. (Applicant) filed with the Federal Energy Regulatory Commission (Commission) an application for determination of exempt wholesale generator status pursuant to section 32 of the Public Utility Holding Company Act of 1935 and part 365 of the Commission's regulations.

Applicant, a Delaware limited liability company with its principal place of business at Four Embarcadero Center, Suite 2200, San Francisco, CA 94111, is a wholly-owned subsidiary of Locomotive Leasing Partners, L.L.C., which, in turn, is jointly owned by GATX Capital Corp. and the Electro-Motive Division of General Motors Corporation. Applicant proposes to acquire and own certain diesel locomotives and lease those locomotives to various parties, who will operate the facilities and make sales of electric energy.

Comment date: July 18, 2001, in accordance with Standard Paragraph E at the end of this notice. The Commission will limit its consideration of comments to those that concern the adequacy or accuracy of the application.

5. Consumers Union of U.S. Inc.

[Docket No. EL01-90-000]

Take notice that on June 15, 2001, Consumers Union of U.S. Inc. (Consumers Union) tendered for filing a request for the Federal Energy Regulatory Commission to take immediate action to protect consumers against unjust and unreasonable charges for electricity in the Western United States pursuant to Section 205 and 206 of the Federal Power Act. Consumers Union request that the Commission adopt certain remedial measures for all states in the Western States Coordinating Council for a period of three years.

Comment date: July 17, 2001, in accordance with Standard Paragraph E at the end of this notice.

6. The Detroit Edison Company

[Docket No. ER01-2002-001]

Take notice that on June 22, 2001, The Detroit Edison Company (Detroit Edison) tendered for filing Service Agreements (Service Agreements) for Short-term Firm and Non-Firm Point -to-Point Transmission Service under the Joint Open Access Transmission Tariff of Consumers Energy Company and Detroit Edison, FERC Electric Tariff No. 1. These Service Agreements are between Detroit Edison and Mirant Americas Energy Marketing, LP, dated as of March 29, 2001. The parties have not engaged in any transactions under the Service Agreements prior to thirty days to this filing. Detroit Edison requests that the Service Agreements be made effective as rate schedules as of July 21, 2001.

Comment date: July 13, 2001, in accordance with Standard Paragraph E at the end of this notice.

7. The Detroit Edison Company

[Docket No. ER01-2003-001]

Take notice that on June 22, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Allegheny Energy Supply Company, LLC dated as of April 20, 2001. The parties have not engaged in any transactions under the Service Agreements prior to thirty days to this filing. Detroit Edison requests that the Service Agreements be made effective as rate schedules as of July 20, 2001.

Comment date: July 13, 2001, in accordance with Standard Paragraph E at the end of this notice.

8. The Detroit Edison Company

[Docket No. ER01-2004-001]

Take notice that on June 22, 2001, The Detroit Edison Company (Detroit Edison) tendered for filing a Service Agreement (Service Agreement) for Long Term Firm Point-to-Point Transmission Service under the Open Access Transmission Tariff of Detroit Edison, FERC Electric Tariff No. 1. This Service Agreement is between Detroit Edison and Detroit Edison Merchants, dated as of February 12, 2001. Detroit Edison requests that the Service Agreements be made effective as rate schedules as of July 21, 2001.

Comment date: July 13, 2001, in accordance with Standard Paragraph E at the end of this notice.

9. The Detroit Edison Company

[Docket No. ER01-2005-001]

Take notice that on June 22, 2001, The Detroit Edison Company (Detroit Edison) tendered for filing Service Agreements (Service Agreements) for Short-term Firm and Non-Firm Point-to-Point Transmission Service under the Joint Open Access Transmission Tariff of Consumers Energy Company and Detroit Edison, FERC Electric Tariff No. 1. These Service Agreements are between Detroit Edison and Consumers Energy d/b/a Consumers Energy Traders dated as of February 13, 2001. The parties have not engaged in any transactions under the Service Agreements prior to thirty days to this filing. Detroit Edison requests that the Service Agreements be made effective as rate schedules as of July 21, 2001.

Comment date: July 13, 2001, in accordance with Standard Paragraph E at the end of this notice.

10. UGI Development Company

[Docket No. ER01-2370-000]

Take notice that on June 22, 2001, UGI Development Company (UGID) tendered for filing a Service Agreement for wholesale power sales transactions under UGID's Wholesale Power Sales Tariff, FERC Electric Tariff First Revised Volume No. 1, by and between UGID and UGI Utilities, Inc. UGID requests an effective date of July 1, 2001 for the Service Agreement.

Comment date: July 13, 2001, in accordance with Standard Paragraph E at the end of this notice.

11. Southern Indiana Gas & Electric Company

[Docket No. ER01-2371-000]

Take notice that, on June 22, 2001, Southern Indiana Gas & Electric Company doing business as Vectren Energy Delivery of Indiana, Inc. (the Company) filed a Service Agreement with the City of Huntingburg, Indiana (Huntingburg) under the Company's market-based tariff. The Company requests that the Commission allow the Service Agreement to become effective on June 1, 2001. The Service Agreement, which is intended to be effective from June 1, 2001 through December 31, 2004, replaces the pre-existing contract (Rate Schedule FERC No. 40) under which the Company had provided all requirements service to Huntingburg. The Service Agreement provides for a change in the rate paid by Huntingburg and also gives Huntingburg the option of purchasing a portion of its electric requirement during the four peak summer months from alternative suppliers. A copy of the filing was served upon Huntingburg and on the Public Service Commission of Indiana.

Comment date: July 13, 2001, in accordance with Standard Paragraph E at the end of this notice.

12. Allegheny Energy Service Corporation on behalf of Allegheny Energy Supply Company, LL

[Docket No. ER01-2376-000]

Take notice that on June 22, 2001, Allegheny Energy Service Corporation on behalf of Allegheny Energy Supply Company, LLC (Allegheny Energy Supply) filed Service Agreement No. 134 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of April 13, 2001 for Sacramento Municipal Utility District.

Comment date: July 13, 2001, in accordance with Standard Paragraph E at the end of this notice.

13. Allegheny Energy Service Corporation on behalf of Allegheny Energy Supply Company, LLC

[Docket No. ER01-2377-000]

Take notice that on June 22, 2001, Allegheny Energy Service Corporation on behalf of Allegheny Energy Supply Company, LLC (Allegheny Energy Supply) filed Service Agreement No. 133 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of May 14, 2001 for Tucson Electric Power Company.

Comment date: July 13, 2001, in accordance with Standard Paragraph E at the end of this notice.

14. Allegheny Energy Service Corporation on behalf of Allegheny Energy Supply Company, LLC

[Docket No. ER01-2378-000]

Take notice that on June 22, 2001, Allegheny Energy Service Corporation on behalf of Allegheny Energy Supply Company, LLC (Allegheny Energy Supply) filed Service Agreement No. 131 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of April 19, 2001 for Salt River Project Agricultural Improvement.

Comment date: July 13, 2001, in accordance with Standard Paragraph E at the end of this notice.

15. Allegheny Energy Service Corporation on behalf of Allegheny Energy Supply Company, LLC

[Docket No. ER01-2379-000]

Take notice that on June 22, 2001, Allegheny Energy Service Corporation on behalf of Allegheny Energy Supply Company, LLC (Allegheny Energy Supply) filed Service Agreement No. 132 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of April 5, 2001 for Morgan Stanley Capital Group Inc.

Comment date: July 13, 2001, in accordance with Standard Paragraph E at the end of this notice.

16. Allegheny Energy Service Corporation on behalf of Allegheny Energy Supply Company, LLC

[Docket No. ER01-2380-000]

Take notice that on June 22, 2001, Allegheny Energy Service Corporation on behalf of Allegheny Energy Supply Company, LLC (Allegheny Energy Supply) filed Service Agreement No. 130 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of April 16, 2001 for Wisconsin Electric Power Marketing.

Comment date: July 13, 2001, in accordance with Standard Paragraph E at the end of this notice.

17. Allegheny Energy Service Corporation on behalf of Allegheny Energy Supply Company, LLC

[Docket No. ER01-2381-000]

Take notice that on June 22, 2001, Allegheny Energy Service Corporation on behalf of Allegheny Energy Supply Company, LLC (Allegheny Energy Supply) filed Service Agreement No. 129 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of June 5, 2001 for Public Service Company of New Mexico.

Comment date: July 13, 2001, in accordance with Standard Paragraph E at the end of this notice.

18. Allegheny Energy Service Corporation on behalf of Allegheny Energy Supply Company, LLC

[Docket No. ER01-2382-000]

Take notice that on June 22, 2001, Allegheny Energy Service Corporation on behalf of Allegheny Energy Supply Company, LLC (Allegheny Energy Supply) filed Service Agreement No. 127 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of April 26, 2001 for Pinnacle West Capital Corporation.

Comment date: July 13, 2001, in accordance with Standard Paragraph E at the end of this notice.

19. Allegheny Energy Service Corporation on behalf of Allegheny Energy Supply Company, LLC

[Docket No. ER01-2383-000]

Take notice that on June 22, 2001, Allegheny Energy Service Corporation on behalf of Allegheny Energy Supply Company, LLC (Allegheny Energy Supply) filed Service Agreement No. 128 to add one (1) new Customer to the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply requests a waiver of notice requirements for an effective date of June 1, 2001 for Nevada Power Company.

Comment date: July 13, 2001, in accordance with Standard Paragraph E at the end of this notice.

20. Southern Company Services, Inc.

[Docket No. ER01-2385-000]

Take notice that on June 22, 2001, Southern Company Services, Inc., as agent for Georgia Power Company (Georgia Power), tendered for filing the Interconnection Agreement between Georgia Power and Southern Power Company (Southern Power) for Goat Rock CC Unit 1 (the Agreement), as a service agreement under Southern Operating Companies' Open Access Transmission Tariff (FERC Electric Tariff, Fourth Revised Volume No. 5) and is designated as Service Agreement No. 381. The Agreement provides the general terms and conditions for the interconnection and parallel operation of Southern Power's electric generating facility located in Lee County, Alabama. The Agreement terminates forty (40) years from the effective date unless terminated earlier by mutual written agreement.

Comment date: July 13, 2001, in accordance with Standard Paragraph E at the end of this notice.

21. Southern Company Services, Inc.

[Docket No. ER01-2386-000]

Take notice that on June 22, 2001, Southern Company Services, Inc., as agent for Georgia Power Company (Georgia Power), tendered for filing the Interconnection Agreement between Georgia Power and Southern Power Company (Southern Power) for Wansley CC Units 6 & 7 (the Agreement), as a service agreement under Southern Operating Companies' Open Access Transmission Tariff (FERC Electric Tariff, Fourth Revised Volume No. 5) and is designated as Service Agreement No. 380. The Agreement provides the general terms and conditions for the interconnection and parallel operation of Southern Power's electric generating facility located in Heard County, Georgia. The Agreement terminates forty (40) years from the effective date unless terminated earlier by mutual written agreement.

Comment date: July 13, 2001, in accordance with Standard Paragraph E at the end of this notice.

22. Commonwealth Edison Company

[Docket No. ER01-2387-000]

Take notice that on June 22, 2001, Commonwealth Edison Company (ComEd) submitted for filing an Interconnection Agreement with LSP-Nelson Energy LLC (LSP-Nelson). ComEd requests an effective date of June 23, 2001 and accordingly seeks waiver of the Commission's notice requirements. Copies of the filing were served on LSP-Nelson and the Illinois Commerce Commission.

Comment date: July 13, 2001, in accordance with Standard Paragraph E at the end of this notice.

23. Commonwealth Edison Company

[Docket No. ER01-2388-000]

Take notice that on June 22, 2001, Commonwealth Edison Company (ComEd) submitted for filing an Interconnection Agreement with Granite Power Partners II, L.P.(Granite). ComEd requests an effective date of June 23, 2001 and accordingly seeks waiver of the Commission's notice requirements. Copies of the filing were served on Granite and the Illinois Commerce Commission.

Comment date: July 13, 2001, in accordance with Standard Paragraph E at the end of this notice.

24. Commonwealth Edison Company

[Docket No. ER01-2389-000]

Take notice that on June 22, 2001, Commonwealth Edison Company (ComEd) submitted for filing an Interconnection Agreement with Lockport Power Generation, LLC (Lockport). ComEd requests an effective date of June 23, 2001 and accordingly seeks waiver of the Commission's notice requirements. Copies of the filing were served on Lockport and the Illinois Commerce Commission.

Comment date: July 13, 2001, in accordance with Standard Paragraph E at the end of this notice.

25. Huntington Beach Development, L.L.C.

[Docket No. ER01-2390-000]

Take notice that on June 20, 2001, Huntington Beach Development, L.L.C. (Huntington Beach) tendered for filing an application for an order accepting its FERC Electric Rate Schedule No. 1, granting certain blanket approvals, including the authority to sell electricity at market-based rates, and waiving certain regulations of the Commission. Huntington Beach requested expedited Commission consideration. Huntington Beach requested that its Rate Schedule No. 1 become effective upon the earlier of the date the Commission authorizes market-based rate authority, or the date Huntington Beach is operationally able to generate, but no later than July 15, 2001. Huntington Beach also filed its Rate Schedule FERC No. 1 and a Supplemental Code of Conduct thereto.

Huntington Beach intends to sell energy and capacity from its facility in the wholesale power market at market-based rates, and on such terms and conditions to be mutually agreed to with the purchasing party.

Comment date: July 11, 2001, in accordance with Standard Paragraph E at the end of this notice.

26. Progress Energy on Behalf of Florida Power Corporation

[Docket No. ER01-2391-000]

Take notice that on June 20, 2001, Florida Power Corporation (FPC) tendered for filing Service Agreements for Short-Term Firm and Non-Firm Point-to-Point Transmission Service with Cinergy Services, Inc. Service to this Eligible Customer will be in accordance with the terms and conditions of the Open Access Transmission Tariff filed on behalf of FPC. A copy of the filing was served upon the Florida Public Service Commission.

FPC is requesting an effective date of June 20, 2001 for the Service Agreements.

Comment date: July 11, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-16746 Filed 7-3-01; 8:45 am]

BILLING CODE 6717-01-P